DEPARTMENT OF DEFENSE

Office of the Secretary

Membership of the Defense Threat Reduction Agency Performance Review Board

AGENCY: Defense Threat Reduction Agency, Department of Defense.

ACTION: Notice.

SUMMARY: This notice announces the appointment of the Defense Threat Reduction Agency's Performance Review Board (PRB) membership. The publication of the PRB membership is required by 5 U.S.C. 4314(c)(4). The PRB shall provide fair and impartial review of Senior Executive Service performance appraisals and make recommendations regarding performance ratings and performance awards to the Director, Defense Threat Reduction Agency.

EFFECTIVE DATES: The effective date of service for the appointees of the Defense Threat Reduction Agency (DTRA) PRB is on or about October 1, 2003.

FOR FURTHER INFORMATION CONTACT: Tana Farrell, Operations Division, Business Directorate, (703) 767-5759, Defense Threat Reduction Agency, 8725 John J. Kingman Road, Stop 6201, Ft. Belvoir, VA 22060-6201.

SUPPLEMENTARY INFORMATION: In accordance with 5 U.S.C. 4314(c)(4), the officials appointed to serve as members of the DTRA PRB are set forth below:

PRB Chair: Mr. Robert L. Brittigan

Member: Maj Gen Trudy H. Clark, USAF

Member: Mr. Myron K. Kunka

Member: Dr. Charles R. Gallaway

The following DTRA officials will serve as alternate members of the DTRA PRB, as appropriate.

Mr. Douglas Bruder

Ms. Shari Durand

Mr. Douglas Englund

Mr. Michael Evenson

Dr. Joe Golden

Mr. Richard Gullickson

Dr. Arthur Hopkins

Dr. Don Linger

Mr. Vayl Oxford

Ms. Joan Ma Pierre

Dated: October 27, 2003.
Patricia L. Toppings,
Alternate OSD Federal Register, Liaison Officer, Department of Defense.

[FR Doc. 03-27938 Filed 11-5-03; 8:45 am]

BILLING CODE 5001-06-M